DEPARTMENT OF STATE

[Public Notice: 11083]

Notice of Cancellation of Public Meeting for International Maritime Organization Facilitation Committee

Due to concerns surrounding the spread of COVID-19, the Department of State is cancelling its meeting in preparation for the International Maritime Organization's (IMO) Facilitation Committee previously scheduled on April 6, 2019. The IMO has indefinitely postponed the subject meeting. If another meeting is scheduled, the Department of State will issue a Federal Register Notice with details.

Jeremy M. Greenwood,
Office of Ocean and Polar Affairs, Department of State.

[FR Doc. 2020-06338 Filed 3-25-20; 8:45 am]

BILLING CODE 4710-09-P